DEPARTMENT OF STATE

[Public Notice 6665]

U.S. Department of State Advisory Committee on Private International Law: Public Meeting on Revision of UNCITRAL Arbitration Rules

A Working Group of the United Nations Commission on International Trade Law (UNCITRAL) has for some time been considering revisions to the 1976 UNCITRAL Arbitration Rules, which are widely used internationally. The next meeting of the Working Group is scheduled for September 14-18, and it is possible that the Working Group may conclude its work at that session. Accordingly, prior to that session a public meeting will be held, under the auspices of the Advisory Committee on Private International Law, to provide an update on the status of the Working Group discussions.

Time and Place: The public meeting will take place in Room 240, South Building, 2430 E Street, NW., Washington, DC on September 9, 2009. Visitors should appear at the gate at the southwest corner of 23rd and C Streets by 12:45 p.m. EDT. The meeting will begin at 1 p.m. and is expected to last no later than 4 p.m. If you are unable to attend the public meeting and would like to participate from a remote location, teleconferencing will be available.

Public Participation: It is requested that persons wishing to attend contact Trisha Smeltzer prior to September 2, 2009, at smeltzertk@state.gov or 202-776-8423 and provide their name, and date of birth for pre-clearance purposes, as well as e-mail address and affiliation. Members of the public who are not pre-cleared might encounter delays with security procedures. A member of the public requesting reasonable accommodation should make his or her request upon registering for the meeting. Such requests received after September 7th will be considered, but might not be possible to fulfill. Please contact Ms. Smeltzer for additional meeting information, including teleconferencing dial-in details.

Dated: July 24, 2009.
Keith Loken,
Assistant Legal Adviser, Office of Private International Law, Office of the Legal Adviser, Department of State.

[FR Doc. E9-18232 Filed 7-29-09; 8:45 am]

BILLING CODE 7410-08-P